DEPARTMENT OF THE INTERIOR

Bureau of Reclamation

[DES-07-05]

Colorado River Interim Guidelines for Lower Basin Shortages and Coordinated Operations for Lake Powell and Lake Mead

AGENCY: Bureau of Reclamation, Interior.

ACTION: Notice of Availability and Notice of Public Hearings for the Draft Environmental Impact Statement for the Colorado River Interim Guidelines for Lower Basin Shortages and Coordinated Operations for Lake Powell and Lake Mead.

SUMMARY: Pursuant to the National Environmental Policy Act (NEPA) of 1969, as amended, and the Council on Environmental Quality's Regulations for Implementing the Procedural Provisions of NEPA, the Department of the Interior (Department), acting through the Bureau of Reclamation (Reclamation), has prepared a draft environmental impact statement (Draft EIS) on the proposed adoption of specific Colorado River Lower Basin shortage guidelines and coordinated reservoir management strategies to address operations of Lake Powell and Lake Mead, particularly under low reservoir conditions. This action is proposed in order to provide a greater degree of certainty to U.S. Colorado River water users and managers of the Colorado River Basin by providing detailed and objective guidelines for the operations of Lake Powell and Lake Mead, thereby allowing water managers and water users in the Lower Basin to know when, and by how much, water deliveries will be reduced in drought and other low reservoir conditions. The Department proposes that these guidelines be interim in duration and extend through 2026.

Cooperating agencies are the Bureau of Indian Affairs, the U.S. Fish and Wildlife Service, the National Park Service (NPS), the Western Area Power Administration (Western), and the United States Section of the International Boundary and Water Commission.

DATES AND ADDRESSES: A public review period commences with the publication of this notice. Comments on the Draft EIS must be submitted no later than Monday, April 30, 2007, to: Regional Director, Lower Colorado Region, Bureau of Reclamation, Attention: BCOO-1000, P.O. Box 61470, Boulder City, Nevada 89006-1470; faxogram at (702) 293-8156; or e-mail at strategies@lc.usbr.gov.

Reclamation will conduct three public hearings to receive written or oral comments from the public on the Draft EIS at the following locations:

• Tuesday, April 3, 2007—6 p.m. to 9 p.m., Henderson Convention Center, Sierra Room, 200 South Water Street, Henderson, Nevada.

• Wednesday, April 4, 2007—6 p.m. to 9 p.m., Phoenix Airport Marriott, Buckhorn Room, 1101 North 44th Street, Phoenix, Arizona.

• Thursday, April 5, 2007—6 p.m. to 9 p.m., Hilton Salt Lake City Center, Canyon Room A & B, 255 South West Temple, Salt Lake City, Utah.

If special assistance is required regarding accommodations for attendance at any of the public hearings, please contact Nan Yoder at (702) 293-8495, faxogram at (702) 293-8156, or e-mail at nyoder@lc.usbr.gov no less than 5 working days prior to the applicable meeting(s).

The Draft EIS is electronically available for viewing and copying at Reclamation's project Web site at: http://www.usbr.gov/lc/region/programs/strategies.html. Alternatively, a compact disc or hard copy is available upon written request to: Regional Director, Lower Colorado Region, Bureau of Reclamation, Attention: BCOO-1000, P.O. Box 61470, Boulder City, Nevada 89006-1470; faxogram at (702) 293-8156; or e-mail at strategies@lc.usbr.gov.

Copies of the Draft EIS are available for public inspection and review at the following locations:

• Bureau of Reclamation, Lower Colorado Regional Office, 400 Railroad Avenue, Boulder City, Nevada.

• Bureau of Reclamation, Upper Colorado Regional Office, 125 South State Street, Room 7220, Salt Lake City, Utah.

• Bureau of Reclamation, Phoenix Area Office, 6150 West Thunderbird Road, Glendale, Arizona.

• Bureau of Reclamation, Yuma Area Office, 7301 Calle Agua Salada, Yuma, Arizona.

• Bureau of Reclamation Library, Denver Federal Center, 6th Avenue and Kipling, Building 67, Room 167, Denver, Colorado.

• Department of the Interior, Natural Resources Library 1849 C Street NW., Washington, DC.

• Yuma County Library, 185 South Main Street, Yuma, Arizona.

• Palo Verde Valley Library, 125 West Chanslor Way, Blythe, California.

• Mohave County Library, 1170 Hancock Road, Bullhead City, Arizona.

• Laughlin Library, 2840 South Needles Highway, Laughlin, Nevada.

• Las Vegas Clark County Library, 833 Las Vegas Boulevard N, Las Vegas, Nevada.

• James I. Gibson Library, 280 Water Street, Henderson, Nevada.

FOR FURTHER INFORMATION CONTACT: Terrance J. Fulp, Ph.D., at (702) 293-8500 or e-mail at strategies@lc.usbr.gov; and/or Randall Peterson at (801) 524-3633 or e-mail at strategies@lc.usbr.gov.

SUPPLEMENTARY INFORMATION: During the period from 2000-2006, the Colorado River has experienced the worst drought conditions in approximately one hundred years of recorded history. During this period, storage in Colorado River reservoirs has dropped from nearly full to less than 60 percent of capacity at the end of 2006. Currently, the Department does not have specific operational guidelines in place to address the operation of Lake Mead and Lake Powell during drought and low reservoir conditions.

Accordingly, the Department proposes the adoption of specific interim guidelines for Lower Basin shortages and coordinated operations of Lake Powell and Lake Mead. The proposed federal action will be implemented through the adoption of interim guidelines in effect through 2026 that would be used each year by the Department in implementing the Criteria for Coordinated Long-Range Operation of Colorado River Reservoirs Pursuant to the Colorado River Basin Project Act of September 30, 1968, through issuance of the Annual Operating Plan for Colorado River Reservoirs.

The proposed federal action considers four operational elements that collectively are designed to address the purpose and need for the proposed federal action. These elements are addressed in each of the alternatives described and analyzed in the Draft EIS. The interim guidelines would be used by the Secretary of the Department of the Interior (Secretary) to:

• Determine those circumstances under which the Secretary would reduce the annual amount of water available for consumptive use from Lake Mead to the Colorado River Lower Division states (Arizona, California, and Nevada) below 7.5 million acre-feet (a “Shortage”) pursuant to Article II(B)(3) of the United States Supreme Court in the case of Arizona v. California, 547 U.S.__(2006);

• Define the coordinated operation of Lake Powell and Lake Mead to provide improved operation of these two reservoirs, particularly under low reservoir conditions;

• Allow for the storage and delivery, pursuant to applicable federal law, of conserved Colorado River system and non-system water in Lake Mead to increase the flexibility of meeting water use needs from Lake Mead, particularly under drought and low reservoir conditions; and

• Determine those conditions under which the Secretary may declare the availability of surplus water for use within the Lower Division states. The proposed federal action would modify the substance of the existing Interim Surplus Guidelines (ISG), published in the Federal Register on January 25, 2001 (66 FR 7772), and the term of the ISG from 2016 to 2026.

The purpose of the proposed federal action is to: (1) Improve Reclamation's management of the Colorado River by considering the trade-offs between the frequency and magnitude of reductions of water deliveries, and considering the effects on water storage in Lake Powell and Lake Mead, water supply, power production, recreation, and other environmental resources; (2) provide mainstream U.S. users of Colorado River water, particularly those in the Lower Division states, a greater degree of predictability with respect to the amount of annual water deliveries in future years, particularly under drought and low reservoir conditions; and, (3) provide additional mechanisms for the storage and delivery of water supplies in Lake Mead.

The Draft EIS presents four possible action alternatives for implementation, plus a “No Action Alternative.” Reclamation has not identified a preferred alternative in this Draft EIS. The preferred alternative will be identified following public comments on the Draft EIS and will be expressed in the Final EIS. The action alternatives reflect input from Reclamation staff, the cooperating agencies, stakeholders, and other interested parties. Reclamation received two written proposals for alternatives that met the purpose and need of the proposed federal action, one from the Basin States and another from a consortium of environmental organizations. These proposals were used and refined by Reclamation to formulate two of the alternatives considered and analyzed in this Draft EIS: the Basin States Alternative and the Conservation Before Shortage Alternative. A third alternative (Water Supply Alternative) was developed by Reclamation and a fourth alternative (Reservoir Storage Alternative) was developed in coordination with the NPS and Western.

The Basin States Alternative proposes a coordinated operation of Lake Powell and Lake Mead that would minimize shortages in the Lower Basin and avoid the risk of curtailments of use in the Upper Basin. This alternative also provides a mechanism, Intentionally Created Surplus (ICS), for promoting water conservation in the Lower Basin.

The Conservation Before Shortage Alternative includes voluntary, compensated reductions in water use to minimize involuntary shortages in the Lower Basin and avoid risk of curtailments of use in the Upper Basin. This alternative also provides a mechanism for promoting water conservation in the Lower Basin by expanding the ICS mechanism.

The Water Supply Alternative is intended to maximize water deliveries at the expense of retaining water in storage in the reservoirs for future use. This alternative would implement shortages only when insufficient water to meet entitlements is available in Lake Mead.

The Reservoir Storage Alternative would keep more water in storage in Lake Powell and Lake Mead by reducing water deliveries and increasing shortages to benefit power and recreational interests; and this alternative also provides a mechanism for promoting water conservation in the Lower Basin.

Public Disclosure

It is our practice to make comments, including names, home addresses, home telephone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: February 2, 2007.
Willie R. Taylor,
Director, Office of Environmental Policy and Compliance.

[FR Doc. E7-3447 Filed 2-27-07; 8:45 am]

BILLING CODE 4310-MN-P